DEPARTMENT OF TRANSPORTATION

National Highway Traffic Safety Administration

[Docket No. NHTSA-2014-0010]

Report, Forms and Record Keeping Requirements

AGENCY: National Highway Traffic Safety Administration, U.S. Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on March 14, 2014.

DATES: Comments must be submitted on or before June 19, 2014.

FOR FURTHER INFORMATION CONTACT: Wayne McKenzie, Office of Crash Avoidance Standards (NVS-121), National Highway Traffic Safety Administration, West Building W43-462, 1200 New Jersey Avenue SE., Washington, DC 20590. Mr. McKenzie can be reached at (202) 366-1729.

SUPPLEMENTARY INFORMATION:

Title: 49 CFR 571.125, Warning Devices.

OMB Control Number: 2127-0506.

Type of Request: Extension of a currently approved collection.

Abstract: 49 U.S.C. 30111, 30112 and 30117 of the National Traffic and Motor Vehicle Safety Act of 1966 as amended (“the Safety Act”), authorized the issuance of Federal Motor Vehicle Safety Standards (FMVSS). The Secretary is authorized to issue, amend, and revoke such rules and regulations as she/he deems necessary. Using this authority, the agency issued FMVSS No.125, “Warning Devices” (Appendix 2) which applies to devices, without self-contained energy sources, that are designed to be carried mandatory in buses and trucks that have a Gross Vehicle Weight Rating (GVWR) greater than 10,000 pounds and voluntarily in other vehicles. These devices are used to warn approaching traffic of the presence of a stopped vehicle, except for devices designed to be permanently affixed to the vehicles.

Affected Public: Businesses or other for profit organizations.

Estimated Number of Respondents: 3.

Estimated Number of Responses: 3.

Annual Estimated Total Annual Burden Hours: 1 hour.

Frequency of Collection:

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Claude H. Harris,
Acting Associate Administrator for Rulemaking.

[FR Doc. 2014-11598 Filed 5-19-14; 8:45 am]

BILLING CODE 4910-59-P